DEPARTMENT OF LABOR

Employment and Training Administration

[TA-W-50,579]

Thomson 60 Case, LLC, a Subsidiary of Thomson Industries, Inc., Lancaster, PA; Amended Certification Regarding Eligibility To Apply for Worker Adjustment Assistance

In accordance with section 223 of the Trade Act of 1974 (19 U.S.C. 2273) the Department of Labor issued a Certification of Eligibility to Apply for Worker Adjustment Assistance on March 17, 2003, applicable to workers of Thomson 60 Case, LLC, a subsidiary of Thomson Industries, Inc., Lancaster, Pennsylvania. The notice was published in the Federal Register on April 2, 2003 (68 FR 16094).

At the request of the State agency, the Department reviewed the certification for workers of the subject firm. The workers produce steel shafting.

New findings show that there was a previous certification, TA-W-37,747, issued on June 12, 2000, for workers of Thomson 60 Case, LLC, Lancaster, Pennsylvania who were engaged in employment related to the production of steel shafting. That certification expired June 12, 2002. To avoid an overlap in worker group coverage, the certification is being amended to change the impact date from January 3, 2002, to June 13, 2002, for workers of the subject firm.

The amended notice applicable to TA-W-50,579 is hereby issued as follows:

All workers of Thomson 60 Case, LLC, a subsidiary of Thomson Industries, Inc., Lancaster, Pennsylvania, who became totally or partially separated from employment on or after June 13, 2002, through March 17, 2005, are eligible to apply for adjustment assistance under section 223 of the Trade Act of 1974.

Signed in Washington, DC, this 23rd day of April, 2003.
Linda G. Poole,
Certifying Officer, Division of Trade Adjustment Assistance.

[FR Doc. 03-11279 Filed 5-6-03; 8:45 am]

BILLING CODE 4510-30-P